Title 3—

The President

Memorandum of April 6, 2006

Assignment of Reporting Function on Iraq Policy Under the National Defense Authorization Act for Fiscal Year 2006

Memorandum for the Secretary of State

By virtue of the authority vested in me as President by the Constitution and laws of the United States, including section 301 of title 3, United States Code, I hereby assign to you the functions of the President under section 1227(c) of the National Defense Authorization Act for Fiscal Year 2006 (Public Law 109-163).

You are authorized and directed to publish this memorandum in the Federal Register.

B

THE WHITE HOUSE,

Washington, April 6, 2006.

[FR Doc. 06-3634

Filed 4-13-06; 8:45 am]

Billing code 4710-10-P